DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On October 25, 2018, OFAC determined that the property and interests in property subject to U.S. jurisdiction of the following persons and the following vessels subject to U.S. jurisdiction are blocked pursuant to the relevant sanctions authority listed below.

Individual

1. TAN, Wee Beng, 51 Siang Kuang Avenue, Singapore; DOB 14 Feb 1977; Gender Male; Secondary sanctions risk: North Korea Sanctions Regulations, sections 510.201 and 510.210; Director of Wee Tiong (S) Pte Ltd; Managing Director of WT Marine Pte Ltd (individual) [DPRK].

Designated pursuant to Section 1(a)(ii)(D) of Executive Order 13551 of August 30, 2010, “Blocking Property of Certain Persons With Respect to North Korea” (E.O. 13551) for having directly or indirectly, engaged in money laundering, the counterfeiting of goods or currency, bulk cash smuggling, narcotics trafficking, or other illicit economic activity that involves or supports the Government of North Korea or any senior official thereof.

Entities

1. WEE TIONG (S) PTE LTD (a.k.a. WEE TIONG S PTE LTD), 1813 Geylang Bahru, #01-01 Kallang Distripark 339715, Singapore; 64D Kallang Pudding Road, #02-00, Wee Tiong Building 349323, Singapore; 02-00 Wee Tiong Building, 64D, Kallang Pudding Road 349323, Singapore; 1805 Geylang Bahru #01-03 339711, Singapore; Secondary sanctions risk: North Korea Sanctions Regulations, sections 510.201 and 510.210; Registration Number 199308567K [DPRK].

Designated pursuant to Section 1(a)(ii)(D) E.O. 13551 for having directly or indirectly, engaged in money laundering, the counterfeiting of goods or currency, bulk cash smuggling, narcotics trafficking, or other illicit economic activity that involves or supports the Government of North Korea or any senior official thereof.

2. WT MARINE PTE LTD, #11-09 Parkway Parade 449269, Singapore; 64D Kallang Pudding Road, #09-00 Wee Tiong Building 349323, Singapore; Secondary sanctions risk: North Korea Sanctions Regulations, sections 510.201 and 510.210; Registration Number 201616714Z [DPRK].

Designated pursuant to Section 1(a)(ii)(D) of E.O. 13551 for having directly or indirectly, engaged in money laundering, the counterfeiting of goods or currency, bulk cash smuggling, narcotics trafficking, or other illicit economic activity that involves or supports the Government of North Korea or any senior official thereof.

Vessels

1. NYMEX STAR Singapore flag; Secondary sanctions risk: North Korea Sanctions Regulations, sections 510.201 and 510.210; Vessel Registration Identification IMO 9078191 (vessel) [DPRK] (Linked To: WT MARINE PTE LTD).

Identified pursuant to E.O. 13551 as property in which WT MARINE PTE LTD, an entity whose property and interests in property are blocked pursuant to E.O. 13551, has an interest.

2. JW JEWEL Singapore flag; Secondary sanctions risk: North Korea Sanctions Regulations, sections 510.201 and 510.210; Vessel Registration Identification IMO 9402964 (vessel) [DPRK] (Linked To: WT MARINE PTE LTD).

Identified pursuant to E.O. 13551 as property in which WT MARINE PTE LTD, an entity whose property and interests in property are blocked pursuant to E.O. 13551, has an interest.

Additionally, on October 25, 2018, OFAC updated the entries on the Specially Designated Nationals and Blocked Persons List for the following individuals, whose property and interests in property are subject to U.S. jurisdiction and who continue to be blocked under the relevant sanctions authorities listed below.

Individuals

1. OWHADI, Mohammad Ebrahim (a.k.a. OWHADI, Jalal; a.k.a. TAHERI, Jalal; a.k.a. VAHEDI, Jalal), Iran; DOB 1963; Gender Male (individual) [SDGT] (Linked To: ISLAMIC REVOLUTIONARY GUARD CORPS (IRGC)-QODS FORCE; Linked To: TALIBAN).

1. OWHADI, Mohammad Ebrahim (a.k.a. OWHADI, Jalal; a.k.a. TAHERI, Jalal; a.k.a. VAHEDI, Jalal), Iran; DOB 1963; Additional Sanctions Information—Subject to Secondary Sanctions; Gender Male (individual) [SDGT] [IRGC] [IFSR] (Linked To: ISLAMIC REVOLUTIONARY GUARD CORPS (IRGC)-QODS FORCE; Linked To: TALIBAN).

Designated on October 23, 2018 pursuant to section 1(c) of E.O. 13224 for acting for or on behalf of the ISLAMIC REVOLUTIONARY GUARD CORPS-QODS FORCE (IRGC-QF), a person determined to be subject to E.O. 13224, and pursuant to section 1(d)(i) of E.O. 13224 for assisting in, sponsoring, or providing financial, material, or technological support for, or financial or other services to or in support of, the TALIBAN, a person determined to be subject to E.O. 13224.

2. RAZAVI, Esma'il (a.k.a. MOHAJERI, Mostafa), Iran; DOB 1959; Gender Male (individual) [SDGT] (Linked To: ISLAMIC REVOLUTIONARY GUARD CORPS (IRGC)-QODS FORCE; Linked To: TALIBAN).

-to-

2. RAZAVI, Esma'il (a.k.a. MOHAJERI, Mostafa), Iran; DOB 1959; Additional Sanctions Information—Subject to Secondary Sanctions; Gender Male (individual) [SDGT] [IRGC] [IFSR] (Linked To: ISLAMIC REVOLUTIONARY GUARD CORPS (IRGC)-QODS FORCE; Linked To: TALIBAN).

Designated on October 23, 2018 pursuant to section 1(c) of E.O. 13224 for acting for or on behalf of the IRGC-QF, a person determined to be subject to E.O. 13224, and pursuant to section 1(d)(i) of E.O. 13224 for assisting in, sponsoring, or providing financial, material, or technological support for, or financial or other services to or in support of, the TALIBAN, a person determined to be subject to E.O. 13224.

Dated: October 25, 2018.
Andrea M. Gacki,
Director, Office of Foreign Assets Control.

[FR Doc. 2018-23659 Filed 10-29-18; 8:45 am]

BILLING CODE 4810-AL-P